SECURITIES AND EXCHANGE COMMISSION

[File No. 500-1]

Order of Suspension of Trading; in the Matter of Integrity Bancshares, Inc.

April 9, 2013.

It appears to the Securities and Exchange Commission that there is a lack of current and accurate information concerning the securities of Integrity Bancshares, Inc. (“Integrity”) because Integrity has not filed any reports since its Form 10-Q for the period ended September 30, 2007, filed November 13, 2007.

The Commission is of the opinion that the public interest and the protection of investors require a suspension of trading in the securities of Integrity.

Therefore, it is ordered, pursuant to Section 12(k) of the Securities Exchange Act of 1934, that trading in the securities of Integrity is suspended for the period from 9:30 a.m. EDT on April 9, 2013, through 11:59 p.m. EDT on April 22, 2013.

By the Commission.
Lynn M. Powalski,
Deputy Secretary.

[FR Doc. 2013-08632 Filed 4-9-13; 4:15 pm]

BILLING CODE P